DEPARTMENT OF TRANSPORTATION

Coast Guard

33 CFR Part 117

[CGD01-02-133]

Drawbridge Operation Regulations: Hackensack River, NJ

AGENCY: Coast Guard, DOT.

ACTION: Notice of temporary deviation from regulations.

SUMMARY: The Commander, First Coast Guard District, has issued a temporary deviation from the drawbridge operation regulations for the Amtrak Portal Bridge, mile 5.0, across the Hackensack River at Little Snake Hill, New Jersey. Under this deviation the bridge may remain closed to vessel traffic for four hours a day from 12 midnight to 4 a.m., from November 18, 2002 through November 21, 2002. In addition, the bridge may remain closed to vessel traffic for two weekends from 9 p.m. on Saturday through 9 a.m. on Sunday, from December 7, 2002 through December 8, 2002, and from December 14, 2002 through December 15, 2002. This temporary deviation is necessary to facilitate repairs at the bridge.

DATES: This deviation is effective from November 18, 2002 through December 15, 2002.

FOR FURTHER INFORMATION CONTACT: Joeseph Schmied, Project Officer, First Coast Guard District, at (212) 668-7165.

SUPPLEMENTARY INFORMATION: The Amtrak Portal Bridge has a vertical clearance in the closed position of 23 feet at mean high water and 28 feet at mean low water. The existing drawbridge operation regulations are at 33 CFR 117.723.

The bridge owner, National Passenger Railroad Corporation (Amtrak), requested a temporary deviation from the drawbridge operation regulations to facilitate necessary maintenance, the replacement of the cable lift system, at the bridge. The bridge must remain in the closed position to navigation to perform these repairs. Vessels that can pass under the bridge without a bridge opening may do so at all times.

The Coast Guard coordinated this closure with the mariners who normally use this waterway to help facilitate this necessary bridge repair and to minimize any disruption to the marine transportation system.

Under this temporary deviation the Amtrak Portal Bridge may remain closed to vessel traffic for four days from 12 midnight to 4 a.m., November 18, 2002 through November 21, 2002. In addition, the bridge may remain closed to vessel traffic for two weekends from 9 p.m. on Saturday through 9 a.m. on Sunday, from December 7, 2002 through December 8, 2002 and from December 14, 2002 through December 15, 2002.

This deviation from the operating regulations is authorized under 33 CFR 117.35, and will be performed with all due speed in order to return the bridge to normal operation as soon as possible.

Dated: November 18, 2002.
V.S. Crea,
Rear Admiral, U.S. Coast Guard, Commander, First Coast Guard District.

[FR Doc. 02-30104 Filed 11-26-02; 8:45 am]

BILLING CODE 4910-15-P